DEPARTMENT OF HOMELAND SECURITY

Bureau of Citizenship and Immigration Services

[CIS No. 2333-04]

Termination and Re-designation of Liberia for Temporary Protected Status; Correction

AGENCY: Bureau of Citizenship and Immigration Services, Department of Homeland Security.

ACTION: Notice of correction.

SUMMARY: The Bureau of Citizenship and Immigration Services (BCIS) is correcting a notice that was published in the Federal Register on August 25, 2004 at 69 FR 52297 which announced the termination and re-designation of Temporary Protected Status (TPS) for nationals of Liberia. In the supplemental information to the notice, BCIS inadvertently misstated that the termination would be effective, and benefits obtained through the Liberia TPS designation will expire, on October 1, 2004. However, under section 244(b)(3)(B) of the Immigration and Nationality Act (Act), a TPS designation may be terminated no earlier than 60 days after publication of the termination notice in the Federal Register. Pursuant to section 244(a)(2) of the Act and 8 CFR 274a.12(a)(12), persons granted TPS retain that status and employment authorization until the effective date of termination unless their TPS is withdrawn before then.

Therefore, BCIS is notifying affected Liberians and their employers that termination of the Liberian TPS designation is effective October 24, 2004, sixty (60) days after the August 25, 2004 termination notice. Accordingly, BCIS is extending until October 24, 2004 the validity of Form I-688B employment authorization documents issued to Liberian TPS beneficiaries that bear an expiration date of October 1, 2004 and a notation of “274a.12(a)(12)” or “274a.12(c)(19).” The effective date of the re-designation remains October 1, 2004.

DATES: This correction is effective October 1, 2004.

FOR FURTHER INFORMATION CONTACT: Jonathan Mills, Residence and Status Services, Office of Programs and Regulations Development, Bureau of Citizenship and Immigration Services, Department of Homeland Security, 111 Massachusetts Avenue, NW., 3rd floor, Washington, DC 20529, telephone (202) 514-4754.

SUPPLEMENTARY INFORMATION:

Need for Correction

As published in the Federal Register on August 25, 2004 (69 FR 52297), the notice contains an error that is in need of correction.

Correction of Publication

Accordingly, the publication on August 25, 2004 (69 FR 52297), of the notice that was the subject of FR Doc. 04-19448 is corrected as follows:

1. On page 52297, in the second column, in the third line under SUMMARY the date “October 1, 2004” is corrected to read: “October 24, 2004”

2. On page 52298, in the third column, the paragraph under the heading “If I Currently Have TPS Through the Liberia TPS Designation, Do I Have to Register for the New TPS Designation?” is corrected to read:

Yes. If you already have received TPS benefits through the Liberia TPS designation, your benefits will expire on October 24, 2004. Accordingly, BCIS is extending until October 24, 2004 the validity of Form I-688B employment authorization documents issued to Liberian TPS beneficiaries that bear an expiration date of October 1, 2004 and a notation of “274a.12(a)(12)” or “274a.12(c)(19).”

After October 24, 2004, individual TPS beneficiaries must comply with the registration requirements described below in order to maintain their TPS benefits through October 1, 2005. TPS benefits include temporary protection against removal from the United States, as well as employment authorization, during the TPS designation period and any extension thereof. 8 U.S.C. 1254a(a)(1).”

Dated: September 29, 2004.
Richard A. Sloan,
Director, Regulatory Management Division, Bureau of Citizenship and Immigration Services.

[FR Doc. 04-22198 Filed 9-29-04; 10:08 am]

BILLING CODE 4410-10-P